DEPARTMENT OF HEALTH AND HUMAN SERVICES

Centers for Medicare and Medicaid Services

[Document Identifier: CMS-R-262 and CMS-10142]

Emergency Clearance: Public Information Collection Requirements Submitted to the Office of Management and Budget

AGENCY: Center for Medicare and Medicaid Services.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320. This is necessary to ensure compliance with an initiative of the Administration. CMS does not have sufficient time to complete the normal PRA clearance process while making corrections and enhancements to the software and ensuring that organizations have ample time to complete and submit their tools by the statutory deadline in June 2007. The normal PRA clearance process would result in violating this statutory deadline which would prevent Medicare Advantage (MA) and Prescription Drug Plan (PDP) organizations from providing benefits to millions of Medicare beneficiaries.

CMS is requesting to continue its use of the Plan Benefit Package software, formulary and Bid Pricing Tool for the collection of benefits, pricing and related information for CY 2008 as part of the annual bidding process.

1. Type of Information Collection Request: Revision of a currently approved collection; Title of Information Collection: Plan Benefit Package (PBP) and Formulary Submission for Medicare Advantage (MA) Plans and Prescription Drug Plans (PDPs); Use: Under the Medicare Modernization Act (MMA), Medicare Advantage (MA) and Prescription Drug Plan (PDP) organizations are required to submit plan benefit packages for all Medicare beneficiaries residing in their service area. CMS requires that MA and PDP organizations submit a completed formulary and PBP as part of the annual bidding process. During this process, organizations prepare their proposed plan benefit packages for the upcoming contract year and submit them to CMS for review and approval. The changes to the PBP include enhancements to the software for describing the out-of-network benefits, Medicare Savings Account (MSA) benefits, Point of Service (POS) benefits, Visitor/Travel benefits, and collecting Medicare Rx information on gap coverage. The changes to the formulary include enhancements to the submission process by developing a drug reference table and by collecting excluded drug indicators, specialty drug indicators, and drug types. The software is more clarifying for the plans to describe its benefits and for the beneficiaries to understand their coverage; Form Number: CMS-R-262 (OMB#: 0938-0763); Frequency: Yearly; Affected Public: Business or other for-profit and Not-for-profit institutions; Number of Respondents: 450; Total Annual Responses: 4,725; Total Annual Hours: 10,800.

2. Type of Information Collection Request: Revision of a currently approved collection; Title of Information Collection: Bid Pricing Tool (BPT) for Medicare Advantage (MA) Plans and Prescription Drug Plans (PDPs); Use: Under the Medicare Prescription Drug, Improvement, and Modernization (MMA), Medicare Advantage organizations (MAO) and Prescription Drug Plans (PDP) are required to submit an actuarial pricing “bid” for each plan offered to Medicare beneficiaries. CMS requires that MAOs and PDPs complete the BPT as part of the annual bidding process. During this process, organizations prepare their proposed actuarial bid pricing for the upcoming contract year and submit them to CMS for review and approval. The purpose of the BPT is to collect the actuarial pricing information for each plan. The BPT calculates the plan's bid, enrollee premiums, and payment rates. The BPT revisions include structural changes to the MA worksheets and changes to streamline reporting requirements. Form Number: CMS-10142 (OMB#: 0938-0944); Frequency: Yearly; Affected Public: Business or other for-profit and Not-for-profit institutions; Number of Respondents: 550; Total Annual Responses: 6,050; Total Annual Hours: 42,350.

CMS is requesting OMB review and approval of these collections by March 21, 2007, with a 180-day approval period. Written comments and recommendation will be considered from the public if received by the individuals designated below by March 3, 2007.

To obtain copies of the supporting statement and any related forms for the proposed paperwork collections referenced above, access CMS' Web Site address at http://www.cms.hhs.gov/PaperworkReductionActof1995 or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by March 3, 2007:

Centers for Medicare and Medicaid Services, Office of Strategic Operations and Regulatory Affairs, Room C4-26-05, 7500 Security Boulevard,Baltimore, MD 21244-1850, Attn: Bonnie L Harkless; and,

OMB Human Resources and Housing Branch, Attention: Carolyn Lovett, New Executive Office Building, Room 10235, Washington, DC 20503.

Dated: February 2, 2007.
Michelle Shortt,
Director, Regulations Development Group, Office of Strategic Operations and Regulatory Affairs.

[FR Doc. 07-577 Filed 2-8-07; 8:45 am]

BILLING CODE 4120-01-P